DEPARTMENT OF TRANSPORTATION

Federal Aviation Administration

14 CFR Part 71

[Docket No. FAA-2021-0279; Airspace Docket No. 21-AGL-13]

RIN 2120-AA66

Proposed Amendment of V-36 and V-316, and Revocation of V-180 Due to Planned Decommissioning of the Elliot Lake and Dryden Non-Directional Beacons (NDBs) Ontario, Canada

AGENCY: Federal Aviation Administration (FAA), DOT.

ACTION: Notice of proposed rulemaking (NPRM).

SUMMARY: This action proposes to amend 2 VHF Omnidirectional Range (VOR) Federal airways and remove one VOR Federal airway in the northeastern United States. The airway amendments are necessary due to the planned decommissioning of the Elliot Lake, Ontario, NDB and the Dryden, Ontario, Canada, NDB. Both NDBs are being decommissioned as part of NAV CANADA's navigational aid (NAVAID) Modernization Program.

DATES: Comments must be received on or before June 24, 2021.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2021-0279; Airspace Docket No. 21-AGL-13 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0279; Airspace Docket No. 21-AGL-13) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0279; Airspace Docket No. 21-AGL-13.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Background

NAV CANADA, which operates Canada's civil air navigation service, is implementing changes to Canada's instrument flight rules (IFR) navigation infrastructure as part of their NAVAID Modernization Program. This program is designed to enhance the efficiency of Canada's flying operations by taking advantage of performance-based navigation and modern avionic capabilities. As such, changes implemented by NAV CANADA occasionally affect VOR Federal airways that extend across the United States/Canada border into the United States.

NAV CANADA is planning to decommission the Elliot Lake and Dryden NDBs as part of their NAVAID Modernization Program. As a result, amendments of V-36 and V-316, and the removal of V-180, are required to mirror changes that are planned to be made by NAV CANADA within Canadian airspace. To mitigate the deletion of V-36 and V-316 airway segments affected by the NDBs being decommissioned, IFR traffic may use adjacent VOR Federal airways, V-300 and V-348, or request air traffic control (ATC) radar vectors to fly around or through the affected area. To mitigate the deletion of V-180, IFR traffic may use adjacent VOR Federal airways, V-133 and V-367, or request ATC radar vectors to fly through or circumnavigate the affected area also. Aircraft with Area Navigation (RNAV) equipment may also navigate point to point using airspace fixes that will remain in place. Visual flight rules (VFR) pilots who elect to navigate via the airways through the affected area could also take advantage of the adjacent VOR Federal airways or ATC services listed previously.

The Proposal

The FAA is proposing an amendment to 14 CFR part 71 to amend V-36 and V-316, and remove V-180 due to the planned decommissioning of the Elliot Lake and Dryden NDBs, ON, Canada to mirror changes that are planned to be made by NAV CANADA within Canadian airspace. The proposed Federal airway amendments and removal are described below.

V-36: V-36 currently extends between the Thunder Bay, ON, Canada, VOR/DME and the intersection of the Wiarton, ON, Canada, VOR/DME 150° radial and Toronto, ON, Canada, VOR/DME 304° radial; and between the Buffalo, NY, VOR/DME and the intersection of the La Guardia, NY, VOR/DME 310° and Stillwater, NJ, VOR/DME 043° radials. The airspace within Canada is excluded. The FAA proposes to remove the airway segment between the Thunder Bay, ON, Canada, VOR/DME and Wawa, ON, Canada, VOR/DME. The FAA also proposes to remove the airway segment between the Sault Ste Marie, MI, VOR/DME and the intersection of the La Guardia, NY, VOR/DME 310° and Stillwater, NJ, VOR/DME 043° radials (NEION fix). The resulting airway would extend between the Wawa, ON, Canada, VOR/DME and the Sault Ste Marie, MI, VOR/DME; and between the Buffalo, NY, VOR/DME and the intersection of the La Guardia, NY, VOR/DME 310° and Stillwater, NJ, VOR/DME 043° radials (NEION fix). Concurrent changes to other segments of V-36 have been proposed in a separate rulemaking proposal.

V-316: V-316 currently extends between the Ironwood, MI, VOR/DME and the Sawyer, MI, VOR/DME; and between the Sault Ste Marie, MI, VOR/DME and the Sudbury, ON, Canada, VOR/DME. The airspace in Canada is excluded. The FAA proposes to delete the airway segment between the Sault Ste Marie, MI, VOR/DME and the Sudbury, ON, Canada, VOR/DME, and the exclusionary language. The resulting airway would extend between the Ironwood, MI, VOR/DME and the Sawyer, MI, VOR/DME.

V-180: V-180 currently extends between the International Falls, MN, VOR/DME and the Dryden, ON, Canada, NDB. The airspace within Canada is excluded. The FAA proposes to remove the airway in its entirety.

All radials in the VOR Federal airway descriptions below are unchanged and stated in True degrees.

VOR Federal airways are published in paragraph 6010(a) of FAA Order 7400.11E, dated July 21, 2020, and effective September 15, 2020, which is incorporated by reference in 14 CFR 71.1. The VOR Federal airways listed in this document would be subsequently updated in the next edition of this Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-36 [Amended]

From Wawa, ON, Canada; to Sault Ste Marie, MI. From Buffalo, NY; Elmira, NY; INT Elmira 110° and LaGuardia, NY, 310° radials; to INT LaGuardia 310° and Stillwater, NJ, 043° radials. The airspace within Canada is excluded.

* * * * *

V-180 [Removed]

* * * * *

V-316 [Amended] From Ironwood, MI; to Sawyer, MI.

* * * * *

Issued in Washington, DC, on May 4, 2021.
George Gonzalez,
Acting Manager, Rules and Regulations Group.

[FR Doc. 2021-09756 Filed 5-7-21; 8:45 am]

BILLING CODE 4910-13-P